NATIONAL SCIENCE FOUNDATION

Proposal Review Panel for Chemistry; Notice of Meeting

In accordance with the Federal Advisory Committee Act (Pub. L. 92-463, as amended), the National Science Foundation announces the following meeting.

Name: Proposal Review Panel for Chemistry (1191).

Date/Time: June 15, 2009, 5 p.m.-9 p.m.; June 16, 2009, 8:30 a.m.-5:30 p.m.; June 17, 2009, 8:30 a.m.-1 p.m.

Place: University of Washington, Bagley Hall, Seattle, WA 98195-1700.

Type of Meeting: Part-Open.

Contact Person: Katharine Covert, National Science Foundation, Arlington, VA, 703-292-4950.

Purpose of Meeting: To conduct a post award site visit evaluation for the Center for Enabling New Transformations through Catalysis (CENTC), a research center funded through the Centers for Chemical Innovation (CCI) Program.

Agenda:

Monday, June 15, 2009

5 p.m.-9 p.m. Closed—Executive Session.

Tuesday, June 16

8:30 a.m.-11:40 a.m. Open—Welcome, Overview of Center, Oral Research Presentations.

11:40 a.m.-1 p.m. Lunch.

12:30 p.m.-1 p.m. Closed Executive Session.

1 p.m.-1:50 p.m. Open—Oral Research Presentations.

1:50 p.m.-3 p.m. Open—Poster Session.

3 p.m.-5 p.m. Open—Presentations on Center Management and Impacts on Innovation, Education, Diversity and Outreach.

5 p.m.-5:30 p.m. Closed—Executive Session.

Wednesday, June 17

8:30 a.m.-1 p.m. Closed—Executive Session, Report Preparation.

Reason for Closing: Topics to be discussed and evaluated during the site review will include information of a proprietary or confidential nature, including technical information; and information on personnel. These matters are exempt under 5 U.S.C.552b(c), (4) and (6) of the Government in the Sunshine Act.

Dated: May 28, 2009.
Susanne Bolton,
Committee Management Officer.

[FR Doc. E9-12721 Filed 6-1-09; 8:45 am]

BILLING CODE 7555-01-P